DEPARTMENT OF TRANSPORTATION

National Highway Traffic Safety Administration

[Docket No. NHTSA-2025-0002]

Legacy Limousines and Luxury Coaches; Grant of Petition for Temporary Exemption From Shoulder Belt Requirement for Side-Facing Seats on Motorcoaches

AGENCY: National Highway Traffic Safety Administration (NHTSA), Department of Transportation (DOT).

ACTION: Notice of grant of a petition for temporary exemption.

SUMMARY: In accordance with our regulations, NHTSA is granting a petition from Legacy Limousines and Luxury Coaches for a temporary exemption from the requirement to install Type 2 seat belts (i.e., shoulder belts) at side-facing locations in the company's motorcoaches. The petitioner is a final-stage manufacturer of entertainer-type motorcoaches, seeking temporary exemption from the shoulder belt requirement of Federal Motor Vehicle Safety Standard (FMVSS) No. 208, “Occupant crash protection,” for side-facing seats on motorcoaches. The granted exemption permits the petitioner to install Type 1 seat belts (lap belt only) at side-facing seating positions, instead of the Type 2 seat belts (lap and shoulder belts) required by FMVSS No. 208. After reviewing the petition and the comments received, the agency has determined that the requested exemption is warranted to enable the petitioner to sell a vehicle whose overall level of safety or impact protection is at least equal to that of a nonexempted vehicle.

DATES: This exemption applies to the petitioner's motorcoaches produced from January 21, 2025 until January 21, 2027.

FOR FURTHER INFORMATION CONTACT: Sara R. Bennett, Office of the Chief Counsel, National Highway Traffic Safety Administration, 1200 New Jersey Avenue SE, Washington, DC 20590. Telephone: (202) 366-2992; Fax: (202) 366-3820.

SUPPLEMENTARY INFORMATION:

I. Background

II. Authority and Procedures for Temporary Exemption

III. FMVSS No. 208

IV. Legacy Limousine and Luxury Coaches' Petition

V. Public Participation

I. Background

This notice grants a petition submitted by Legacy Limousines and Luxury Coaches from the shoulder belt requirement of Federal Motor Vehicle Safety Standard (FMVSS) No. 208, “Occupant crash protection,” for side-facing seats on motorcoaches.

As background, NHTSA is responsible for promulgating and enforcing Federal motor vehicle safety standards (FMVSS) designed to improve motor vehicle safety. Generally, a manufacturer may not manufacture for sale, sell, offer for sale, or introduce or deliver for introduction into interstate commerce a vehicle that does not comply with all applicable FMVSS.¹ There are limited exceptions to this general prohibition.² One path permits manufacturers to petition NHTSA for an exemption for noncompliant vehicles under a specified set of statutory bases.³ The details of these bases, and under which basis Legacy Limousines and Luxury Coaches' petition is granted, are provided in the sections of this notice that follow.

¹ 49 U.S.C. 30112(a)(1).

² 49 U.S.C. 30112(b); 49 U.S.C. 30113; 49 U.S.C. 30114.

³ 49 U.S.C. 30113.

II. Authority and Procedures for Temporary Exemption

The National Traffic and Motor Vehicle Safety Act (Safety Act), codified at 49 U.S.C. chapter 301, authorizes the Secretary of Transportation to exempt motor vehicles, on a temporary basis and under specified circumstances, and on terms the Secretary considers appropriate, from a FMVSS or bumper standard. This authority is set forth at 49 U.S.C. 30113. The Secretary has delegated the authority for implementing this section to NHTSA.⁴

⁴ 49 CFR 1.95.

The Safety Act authorizes the Secretary to grant, in whole or in part, a temporary exemption to a vehicle manufacturer if the Secretary makes one of four specified findings.⁵ The Secretary must also look comprehensively at the request for exemption and find that the exemption is consistent with the public interest and with the objectives of the Safety Act.⁶

⁵ 49 U.S.C. 30113(b)(3).

⁶ 49 U.S.C. 30113(b)(3)(A).

The Secretary must evaluate the petition for exemption under at least one of the following bases:

(ii) Compliance would cause substantial economic hardship, and the manufacturer tried to comply in good faith;

(ii) the exemption would make easier the development or field evaluation of a new motor vehicle safety feature, and the safety level is equal to the safety level of the standard;

(iii) the exemption would make the development or field evaluation of a low-emission motor vehicle easier, and the safety level of the vehicle is not unreasonably lowered; or

(iv) compliance would prevent the manufacturer from selling a motor vehicle with an overall safety level at least equal to the overall safety level of nonexempt vehicles.⁷

⁷ 49 U.S.C. 30113(b)(3)(B).

NHTSA established 49 CFR part 555, Temporary Exemption from Motor Vehicle Safety and Bumper Standards, to implement the statutory provisions concerning temporary exemptions. The requirements in 49 CFR 555.5 state that the petitioner must set forth the basis of the petition by providing the information required under 49 CFR 555.6, and the reasons why the exemption would be in the public interest and consistent with the objectives of the Safety Act. A petition submitted on the basis that the applicant is otherwise unable to sell (or in this instance, manufacture) a vehicle whose overall level of safety or impact protection is at least equal to that of a nonexempt vehicle must include the information specified in 49 CFR 555.6(d).

III. FMVSS No. 208

On November 25, 2013, NHTSA published a final rule amending FMVSS No. 208 to require seat belts for each passenger seating position in all new over-the-road buses (OTRBs) (regardless of gross vehicle weight rating (GVWR)), and all other buses with GVWRs greater than 11,793 kilograms (kg) (26,000 pounds (lb)) (with certain exclusions).

In the notice of proposed rulemaking (NPRM) preceding the final rule, NHTSA proposed to permit manufacturers the option of installing either a Type 1 (lap belt) or a Type 2 (lap and shoulder belt) on side-facing seats.⁸ The proposed option was consistent with a provision in FMVSS No. 208 that allows lap belts for side-facing seats on buses with a GVWR of 4,536 kg (10,000 lb) or less. NHTSA proposed the option because the agency was unaware of any demonstrable increase in associated risk of lap belts compared to lap and shoulder belts on side-facing seats. NHTSA stated that “a study commissioned by the European Commission regarding side-facing seats on minibuses and motorcoaches found that due to different seat belt designs, crash modes and a lack of real-world data, it cannot be determined whether a lap belt or a lap/shoulder belt would be the most effective.” ⁹

⁸ 75 FR 50958 (Aug. 18, 2010).

⁹ http://ec.europa.eu/enterprise/automotive/projects/safety_consid_long_stg.pdf.

However, after the NPRM was published, the Motorcoach Enhanced Safety Act of 2012 was enacted as part of the Moving Ahead for Progress in the 21st Century Act (MAP-21), Public Law 112-141 (July 6, 2012). Section 32703(a) of MAP-21 directed the Secretary of Transportation (authority delegated to NHTSA) to “prescribe regulations requiring safety belts to be installed in motorcoaches at each designated seating position.” As MAP-21 defined “safety belt” to mean an integrated lap and shoulder belt, the final rule amended FMVSS No. 208 to require lap and shoulder belts at all designated seating positions, including side-facing seats, on OTRBs.

Even so, the agency reiterated its view that “the addition of a shoulder belt at [side-facing seats on light vehicles] is of limited value, given the paucity of data related to side facing seats.” ¹⁰ The agency also noted that Australian Design Rule ADR 5/04, “Anchorages for Seatbelts” specifically prohibits shoulder belts for side-facing seats.

¹⁰ 78 FR 70416, 70448 (Nov. 25, 2013), citing the 2004 Anton's Law final rule.

Given that background, and believing that few OTRBs would have side-facing seats, NHTSA stated in the November 2013 final rule that the manufacturers at issue may petition NHTSA for a temporary exemption under 49 CFR part 555 to install lap belts instead of lap and shoulder belts at side-facing seats.¹¹ In the November 2013 final rule, NHTSA stated that the agency would be receptive to the argument that lap belts provide an equivalent level of safety to lap/shoulder belt combinations for side-facing seats.¹² NHTSA stated that the basis for any petition for exemption from this requirement would be that the applicant is unable to sell a bus whose overall level of safety is at least equal to that of a non-exempted vehicle.¹³

¹¹ Id.

¹² Id.

¹³ Id.

As noted in the notice of receipt, since issuing the November 2013 final rule, NHTSA has granted temporary exemptions to more than a dozen final stage manufacturers of entertainer buses for the same shoulder belt requirement of FMVSS No. 208 for side-facing seats on entertainer buses.¹⁴

¹⁴ The first petition was submitted by Hemphill Brothers Leasing Company, LLC (Hemphill). (Notice of receipt of petition, 84 FR 11735 (Mar. 28, 2019); notice of grant of petition, 84 FR 69966 (Nov. 14, 2019)). In its original petition, Hemphill stated that 39 “other petitioners” were covered by it. Later, NHTSA granted the 13 petitions submitted by All Access Coach Leasing LLC, Amadas Coach, Creative Mobile Interiors, D&S Classic Coach Inc., Farber Specialty Vehicles, Florida Coach, Inc., Geomarc, Inc., Integrity Interiors LLC, Nitetrain Coach Company, Inc., Pioneer Coach Interiors LLC, Roberts Brothers Coach Company, Russell Coachworks LLC, and Ultra Coach Inc. (Notice of receipt of the petitions, 85 FR 51550 (Aug. 20, 2022); notice of grant of petitions, 87 FR 33299 (June 1, 2022)). Most recently, NHTSA granted an exemption to Beat the Street Interiors, Inc. (BTS). (Notice of receipt of petition, 88 FR 25445 (Apr. 26, 2024); notice of grant of petition, 88 FR 78093 (Nov. 14, 2023)).

In the most recent decision notice granting one of these exemptions, NHTSA's rationale for granting the exemption cited the uncertainties about shoulder belts on side-facing seats, the relatively small number of side-facing seats on buses subject to the November 2013 final rule, and that FMVSS No. 208 does not require shoulder belts on side-facing seats on any other vehicle type.¹⁵ NHTSA stated that it believes the potential safety risk at issue is theoretical, as explained in the in November 2013 final rule, and the agency cannot affirmatively conclude, based on available information, that shoulder belts on side-facing seats are associated with a demonstrated risk of serious neck injuries in front crashes. NHTSA also stated that it believes a shoulder belt is of limited value on side-facing seats for the reasons explained in the final rule and further explained that it believed granting the exemption was consistent with the public interest and the Safety Act.

¹⁵ 88 FR 25445.

IV. Legacy Limousine and Luxury Coaches' Petition

In accordance with 49 U.S.C. 30113 and the procedures in 49 CFR part 555, Legacy Limousine and Luxury Coaches submitted a petition asking NHTSA for a temporary exemption from the shoulder belt requirement of FMVSS No. 208 for side-facing seats on its vehicles. The petitioner seeks to install Type 1 seat belts (lap belt only) at side-facing seating positions, instead of Type 2 seat belts (lap and shoulder belts) as required by FMVSS No. 208. Petitioner seeks this exemption because it states it is otherwise unable to sell a motor vehicle whose overall level of safety is equivalent to or exceeds the overall level of safety of nonexempted motor vehicles. 49 CFR 555.6(d). The only difference between the requested exempt vehicles and non-exempted vehicles is that the non-exempted vehicles have lap/shoulder belts at side-facing seating positions, while exempted vehicle would have no belts or lap belts at side-facing seating positions.

Legacy Limousine and Luxury Coaches is a corporation that identifies itself as a final-stage manufacturer of entertainer-type motorcoaches. Legacy Limousine and Luxury Coaches states it is responsible for ensuring that the completed coach meets the FMVSS. The company typically receives a bus shell from an incomplete vehicle manufacturer and customizes the OTRB.

According to the petition, the bus shell received from the incomplete vehicle manufacturer generally contains the following components: exterior frame; driver's seat; dash cluster, speedometer, emissions light and emissions diagnosis connector; exterior lighting, headlights, marker lights, tum signal lights, and brake lights; exterior glass, windshield and side lights with emergency exits; windshield wiper system; braking system; tires, tire pressure monitoring system and suspension; and engine and transmission.

Petitioner states it then builds out the complete interior of the vehicle, which might include: roof escape hatch; fire suppression systems (interior living space, rear tires, electrical panels, bay storage compartments, and generator); ceiling, side walls and flooring; seating; electrical system, generator, invertor and house batteries; interior lighting; interior entertainment equipment; heating, ventilation and cooling system; galley with potable water, cooking equipment, refrigerators, and storage cabinets; bathroom and showers; and sleeping positions.

Pursuant to 49 CFR 555.5(b)(7), the petitioner must state why granting an exemption allowing it to install Type 1 instead of Type 2 seat belts in side-facing seats would be in the public interest and consistent with the objectives of the Safety Act.

Petitioner argues that NHTSA clearly had reservations about the safety effects of Type 2 seat belts on side-facing seats in motorcoaches. Petitioner notes that Congress mandated that NHTSA require Type 2 seat belts in side-facing seating positions in motorcoaches. NHTSA required it, per the direction from Congress, but NHTSA stated “the addition of a shoulder belt at [side-facing seats on light vehicles] is of limited value, given the paucity of data related to side facing seats.” ¹⁶ Petitioner raises the fact that NHTSA has also reiterated that there have been concerns expressed in literature in this area about shoulder belts on side-facing seats, noting in the final rule that, although the agency has no direct evidence that shoulder belts may cause serious neck injuries when applied to side-facing seats, simulation data indicate potential carotid artery injury when the neck is loaded by the shoulder belt.¹⁷ Similarly, petitioner states that NHTSA also noted that Australian Design Rule ADR 5/04, “Anchorages for Seatbelts,” specifically prohibits shoulder belts for side-facing seats. Petitioner also notes that there was no testing before or after the issuance of the 2013 final rule requiring Type 2 seat belts on side-facing seats in motorcoaches.

¹⁶ 78 FR 70448 (quoting the agency's Anton's Law final rule, which required lap/shoulder belts in forward-facing rear seating positions of light vehicles, 59 FR 70907).

¹⁷ Eds.: Fildes, B., Digges, K., “Occupant Protection in Far Side Crashes,” Monash University Accident Research Center, Report No. 294, April 2010, pg. 57.

Petitioner states that granting its petition would be consistent with the Safety Act and in the public interest because NHTSA's analysis in developing the 2013 final rule found no demonstrable increase in associated risk related to the use of Type 1 seat belts.

V. Notice of Receipt and Comments Received

On November 4, 2024, NHTSA published the notice of receipt for this petition to solicit input from the public.¹⁸ Much of the information included in the notice of receipt is included in this grant notice. NHTSA received six comments in response to the notice of receipt. Commenters included the American Bus Association and five individuals. The American Bus Association strongly supported granting the petition. The five individuals who commented did not support granting the petition for the reasons summarized below. NHTSA includes its responses to the commenters' concerns below, too.

¹⁸ 89 FR 87722.

A few commenters expressed general support for shoulder belts in motorcoaches, stating that they significantly enhance safety. One commenter stated that the automotive industry has resisted the adoption of safety features, and seemed to indicate his belief that this petition was broadly seeking an exemption from all shoulder belt requirements, not just those in side-facing seats. This commenter also believes that the scope of the petition includes limousines, which it does not because it is focused on entertainer-type motorcoaches. Rather, the name of the company petitioning has limousine in the title, which may have been the source of confusion.

One individual commenter stated that she did not believe that the petitioner had proven its inability to sell vehicles outweighs the value of Type 2 seat belts in side-facing seating positions in motorcoaches. This commenter pointed to the “Effectiveness of Lap/Shoulder Belts in the Back Outboard Seating Positions” study, which stated that “back seat lap/shoulder belts are 15 percent effective in reducing fatalities when compared to back seat lap belts.” She also stated that competitors of the petitioner are producing vehicles with Type 2 seat belts in side-facing seating positions in motorcoaches.

One commenter suggests that industry produce a study to demonstrate that lap belts in side-facing seats are as effective as Type 2 seat belts, or that NHTSA independently conduct a limited study on the utility of shoulder harnesses for side-facing or perimeter seating to further understand their benefits and potential areas for improvement.

Other commenters misunderstood this petition for exemption as a petition for rulemaking, or other rulemaking effort. To be clear, this grant notice is not a rulemaking document and anything included in the grant notice applies to the petitioner alone.

NHTSA does not question the value of Type 2 seat belts for forward facing seating positions. The portion of the report cited by the commenter does not refer to information about side-facing seating positions, so it does not demonstrate the safety need suggested by the commenter. The report cited by one commenter that references 15 percent efficacy in reducing fatalities was describing a study that focused on passenger cars, which are not at issue in this decision notice. Additionally, the commenter did not specify which competitors she was referring to or what “vehicles” those competitors were producing, or whether those competitors were producers of entertainer-type motor coaches (as opposed to other motorcoaches). As such, the commenter did not provide NHTSA with enough information to use to assess the veracity of her claims opposing a grant.

NHTSA generally agrees that shoulder belts in motorcoaches increase safety, though the application of that statement to side-facing seats becomes complicated due to the issues discussed in the 2013 rulemaking. At that time, NHTSA stated that it believes a shoulder belt is of limited value on side-facing seats for the reasons explained in detail in the final rule. Until new research indicates that the situation has changed, NHTSA affirms its analysis in other similar exemptions and in the 2013 final rule.

As mandated by the Bipartisan Infrastructure Law (BIL), NHTSA is currently researching the protection of occupants in limousines, including side-facing seats. This research includes full-scale crash testing and computational modeling of two types of limousines in both frontal and side impact crash modes. While this research does not directly apply to motorcoaches, it will include several observations of occupant response in side-facing seats, which will help clarify the unknowns related to shoulder belt loading of an occupant's neck in a side-facing seat.¹⁹

¹⁹ “On November 15, 2021, President Biden signed the Infrastructure Investment and Jobs Act (IIJA or the Bipartisan Infrastructure Law), Public Law 117-58. Sections 23015 and 23023 of the Bipartisan Infrastructure Law (BIL) mandated that the Secretary of Transportation, NHTSA through delegation, shall conduct a variety of research and actions including research into the development of motor vehicle safety standards for side impact protection, roof crush resistance, and air bag systems for the protection of occupants in limousines with alternative seating positions—including perimeter seating arrangements, safety features and standards that aid evacuation in the event that an exit in the passenger compartment of a limousine is blocked, and amending FMVSS Nos. 207, 208, 209, and 210 such that they apply to limousines on each designated seating position, including side-facing seats.” https://www.regulations.gov/document/NHTSA-2024-0054-0001. See also 2022 NHTSA Research Public Meeting, available at https://downloads.regulations.gov/NHTSA-2022-0091-0007/attachment_7.pdf.

VI. Agency Analysis and Decision

After reviewing Legacy Limousine and Luxury Coaches' petition for temporary exemption and the comments received on it, NHTSA is granting the petition. Granting the petition will enable the petitioner to sell a vehicle whose overall level of safety or impact protection is at least equal to that of a nonexempted vehicle.

In the rulemaking implementing MAP-21's mandate for seat belts on motorcoaches, NHTSA's proposal in the NPRM was to allow manufacturers an option of installing Type 1 (lap belt) or Type 2 (lap and shoulder belt) on side-facing seats. That proposal was consistent with a provision in FMVSS No. 208 that allows lap belts for side-facing seats on buses with a GVWR of 4,536 kg (10,000 lb) or less. NHTSA proposed the option because the agency was unaware of any demonstrable increase in associated risk of lap belts compared to lap and shoulder belts on side-facing seats. That is, the agency believed that lap belts were not less protective than lap and shoulder belts for side-facing seats. As noted in the summary above, NHTSA finalized the requirement for Type 2 seat belts in side-facing positions because of a congressional mandate to do so. In that final rule, NHTSA finalized the requirement for Type 2 seat belts in side-facing positions, while also noting that the agency would be receptive to a petition for a temporary exemption that argues that lap belts provide an equivalent level of safety to lap/shoulder belt combinations for side-facing seats.

The petitioner does not provide information supporting its contentions about the potential for Type 2 seat belts in side-facing seats to cause injuries beyond reciting what NHTSA said on the matter in the 2013 final rule. Accordingly, NHTSA believes that the potential safety risk at issue is theoretical at this point; as explained in the November 2013 final rule, the agency cannot affirmatively conclude, based on available information, that shoulder belts on side-facing seats are associated with a demonstrated risk of serious neck injuries in frontal crashes. However, at the same time, NHTSA believes a shoulder belt is of limited value on side-facing seats for the reasons explained in the final rule. Given the uncertainties about shoulder belts on side-facing seats, the few side-facing seats on buses subject to the November 2013 final rule, and that FMVSS No. 208 does not require shoulder belts on side-facing seats on any other vehicle type, NHTSA is granting Legacy Limousine and Luxury Coach's petition for temporary exemption. The grant will permit the petitioner to install Type 1 seat belts (lap belt only) at side-facing seating positions, instead of Type 2 seat belts (lap and shoulder belts) at those positions, on the entertainer-type motorcoaches it manufactures. This exemption does not apply to forward-facing designated seating positions on the petitioner's vehicles. Under FMVSS No. 208, the forward-facing seating positions must have Type 2 lap and shoulder belts.

NHTSA believes that granting Legacy Limousine and Luxury Coach's petition is consistent with the public interest. The exemption will enable the applicant to sell buses whose overall level of safety is at least equal to that of non-exempted vehicles. Much of the petitioner's analysis for why granting its petition is in the public interest relies on NHTSA's own analysis in the rulemaking mandating Type 2 seat belts in side-facing seats. Chief among that analysis is the fact that NHTSA stated that it did not have enough data available at the time to demonstrate that the Type 2 seat belt for side-facing seatbelts had more than limited value. This dearth of data may change with future research, but since additional data is not yet available, NHTSA agrees that granting this petition is in the public interest.

Granting this petition is also consistent with the Safety Act. The requested exemption will not impact general motor vehicle safety because the exempted buses will provide overall safety at least equal to that of nonexempted buses. Further, Legacy Limousines and Luxury Coaches produces a small number of affected vehicles annually. The petitioner did not specify in its petition how many buses it would manufacture under the exemption but noted that “fewer than 100 entertainer-type motorcoaches with side-facing seats are manufactured and enter the U.S. market each year.” Thus, NHTSA concludes that the petitioner will manufacture very few vehicles relative to the 2,500 per manufacturer limit set forth in the Safety Act. Further, as explained below, in accordance with § 30113(h) of the Safety Act, prospective purchasers will also be notified of the exemption before making their purchasing decisions. The vehicles must have a label notifying prospective purchasers that the vehicles are exempted from the shoulder belt requirement of FMVSS No. 208 for the side-facing seats. NHTSA believes that this combination of factors reinforces that this grant notice is consistent with the Safety Act.

VII. Labeling

Under 49 CFR 555.9(b), a manufacturer of an exempted vehicle must securely affix to the windshield or side window of each exempted vehicle a label containing a statement that the vehicle meets all applicable FMVSSs in effect on the date of manufacture “except for Standard Nos. [Listing the standards by number and title for which an exemption has been granted] exempted pursuant to NHTSA Exemption No. __.” This label notifies prospective purchasers about the exemption and its subject. Under § 555.9(c)(2), this information must also be included on the vehicle's certification label.²⁰

²⁰ 49 CFR 555.9(c)(2) refers to § 567.5(c)(7)(iii) as the regulation setting forth the certification statement final-stage manufacturers are to use in their certification labels. That reference to § 567.5(c)(7)(iii) is outdated; it should be to § 567.5(d)(2)(v)(A). The certification label requirements for final-stage manufacturers formerly were in § 567(c)(7)(iii) but the requirements were moved to § 567.5(d)(2)(v)(A) (see 70 FR 7433 (Feb. 14, 2005)).

The text of § 555.9 does not expressly indicate how the required statement on the two labels should read in situations in which an exemption covers part, but not all, of an FMVSS. In this case, NHTSA believes that a blanket statement that the vehicle has been exempted from Standard No. 208, without an indication that the exemption is limited to the shoulder belt on side-facing seats, could be confusing. A purchaser might incorrectly believe that the vehicle has been exempted from all of FMVSS No. 208's requirements. For this reason, NHTSA believes the two labels should read in relevant part, “except for the shoulder belt requirement for side-facing seats (Standard No. 208, Occupant Crash Protection), exempted pursuant to * * *.”

In accordance with 49 U.S.C. 30113(b)(3)(B)(iv), the applicant is granted NHTSA Temporary Exemption No. EX 25-01, from the shoulder belt requirement of 49 CFR 571.208 for side-facing seats on its motorcoaches. The exemption shall remain effective for the period designated at the beginning of this document in the DATES section.

(Authority: 49 U.S.C. 30113; delegations of authority at 49 CFR 1.95 and 501.5.

Issued in Washington, DC, under authority delegated in 49 CFR 1.95 and 501.5.
Sophie Shulman,
Deputy Administrator.

[FR Doc. 2025-01299 Filed 1-17-25; 8:45 am]

BILLING CODE 4910-59-P